DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB) revision of a current information collection. The Federal Register Notice with a 60-day comment period soliciting comments on the following collection of information was published on March 31, 2008, vol. 73, no. 62, pages 16923-16924. To determine regulatory compliance, there is a need for airmen to maintain records of certain training and recentness of experience.

DATES: Please submit comments by June 30, 2008.

FOR FURTHER INFORMATION CONTACT: Carla Mauney at Carla.Mauney@faa.gov.

SUPPLEMENTARY INFORMATION:

Federal Aviation Administration (FAA)

Title: Certificated Training Centers—Simulator Rule, Part 142.

Type of Request: Extension without change of a currently approved collection.

OMB Control Number: 2120-0570.

Forms(s): There are no FAA forms associated with this collection.

Affected Public: An estimated 108 Respondents.

Frequency: This information is collected on occasion.

Estimated Average Burden Per Response: Approximately 1,177.5 hours per response.

Estimated Annual Burden Hours: An estimated 127,180 hours annually.

Abstract: To determine regulatory compliance, there is a need for airmen to maintain records of certain training and recentness of experience; training center have to maintain records of students' training, employee qualification and training, and training program approvals.

ADDRESSES: Interested persons are invited to submit written comments on the proposed information collection to the Office of Information and Regulatory Affairs, Office of Management and Budget. Comments should be addressed to Nathan Lesser, Desk Officer, Department of Transportation/FAA, and sent via electronic mail to oira_submission@omb.eop.gov or faxed to (202) 395-6974.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on May 19, 2008.
Carla Mauney,
FAA Information Collection Clearance Officer, IT Enterprises Business Services Division, AES-200.

[FR Doc. E8-11826 Filed 5-28-08; 8:45 am]

BILLING CODE 4910-13-M